INTERNATIONAL TRADE COMMISSION

[Investigation No. 701-TA-457 (Review)]

Certain Tow-Behind Lawn Groomers and Parts Thereof From China

AGENCY: United States International Trade Commission.

ACTION: Notice of termination of five-year review.

SUMMARY: The Commission instituted the subject five-year review in July 2014 to determine whether revocation of the countervailing duty order on certain tow-behind lawn groomers and parts thereof from China would be likely to lead to continuation or recurrence of material injury (79 FR 37349). On September 23, 2014, the Department of Commerce published notice that it was revoking the order effective September 23, 2014, “{b}ecause the domestic interested parties did not participate in this sunset review . . .” (79 FR 56769). Accordingly, pursuant to section 751(c) of the Tariff Act of 1930 (19 U.S.C. 1675(c)), the subject review is terminated.

DATES: Effective Date: September 24, 2014.

FOR FURTHER INFORMATION CONTACT: Angela M.W. Newell (202-708-5409), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov).

Authority: This review is being terminated under authority of title VII of the Tariff Act of 1930; this notice is published pursuant to section 207.69 of the Commission's rules (19 CFR 207.69).

Issued: September 29, 2014.
By order of the Commission.
Lisa R. Barton,
Secretary to the Commission.

[FR Doc. 2014-23460 Filed 10-1-14; 8:45 am]

BILLING CODE 7020-02-P